DEPARTMENT OF LABOR

Employment and Training Administration

[TA-W-53,722]

Fisher Controls, North Stonington, CT, Now Located In Pawcatuck, CT; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on January 8, 2004, applicable to workers of Fisher Controls, North Stonington, Connecticut. The notice was published in the Federal Register on February 6, 2004 (69 FR 5867).

At the request of the State agency, the Department reviewed the certification for workers of the subject firm. The workers are engaged in the production of rotary valves.

New information shows that in October 2004, the subject firm located in North Stonington, Connecticut, relocated to Pawcatuck, Connecticut.

Accordingly, the Department is amending this certification to include workers at the new location of the subject firm in Pawcatuck, Connecticut.

The intent of the Department's certification is to include all workers employed at Fisher Controls, who were adversely affected by increased imports.

The amended notice applicable to TA-W-53,722 is hereby issued as follows:

All workers of Fisher Controls, North Stonington, Connecticut, now located in Pawcatuck, Connecticut, who became totally or partially separated from employment on or after December 2, 2002, through January 8, 2006, are eligible to apply for adjustment assistance under Section 223 of the Trade Act of 1974, and are also eligible to apply for alternative trade adjustment assistance under Section 246 of the Trade Act of 1974.

Signed at Washington, DC this 5th day of April 2005.
Richard Church,
Certifying Officer, Division of Trade Adjustment Assistance.

[FR Doc. E5-1944 Filed 4-22-05; 8:45 am]

BILLING CODE 4510-30-P